OFFICE OF THE UNITED STATES TRADE REPRESENTATIVE

[Docket No. WTO/DS223]

WTO Consultations Regarding EU Tariff Rate Quota on Corn Gluten Feed From the United States

AGENCY: Office of the United States Trade Representative.

ACTION: Notice; request for comments.

SUMMARY: The Office of the United States Trade Representative (USTR) is providing notice that on January 25, 2001, the United States requested consultations with the European Union (EU) under the Marrakesh Agreement Establishing the World Trade Organization (WTO), regarding the imposition of a tariff rate quota on corn gluten feed imported from the United States. The United States alleges that this measure is inconsistent with Articles I, II, and XIX of the GATT 1994, and Articles 8.1, 8.2, and 8.3 of the Safeguards Agreement. Pursuant to Article 4.3 of the WTO Dispute Settlement Understanding (“DSU”), such consultations are to take place within a period of 30 days from the date of the request, or within a period otherwise mutually agreed between the United States and the EU. USTR invites written comments from the public concerning the issues raised in this dispute.

DATES: Although the USTR will accept any comments received during the course of the dispute settlement proceedings, comments should be submitted on or before February 26, 2001, to be assured of timely consideration by USTR.

ADDRESSES: Submit comments to Sandy McKinzy, Monitoring and Enforcement Unit, Office of the General Counsel, Room 122, Office of the United States Trade Representative, 600 17th Street, NW., Washington, DC, 20508, Attn. Corn Gluten TRQ Dispute, Telephone: (202) 395-3582.

FOR FURTHER INFORMATION CONTACT: Willis S. Martyn, Assistant General Counsel, Office of the United States Trade Representative, 600 17th Street, NW., Washington, DC, (202) 395-3582.

SUPPLEMENTARY INFORMATION: Section 127(b) of the Uruguay Round Agreements Act (URAA) (19 U.S.C. 3537(b)(1)) requires that notice and opportunity for comment be provided after the United States submits or receives a request for the establishment of a WTO dispute settlement panel. Consistent with this obligation, but in an effort to provide additional opportunity for comment, USTR is providing notice that consultations have been requested pursuant to the WTO Dispute Settlement Understanding . If such consultations should fail to resolve the matter and a dispute settlement panel is established pursuant to the DSU, such panel, which would hold its meetings in Geneva, Switzerland, would be expected to issue a report on its findings and recommendations within six to nine months after it is established.

Major Issues Raised by the United States

On August 20, 1998, the EU published Council Regulation No. 1804/98 of August 14, 1998, which imposed a tariff rate quota (TRQ) of 5 euros per metric ton (MT) on the first 2,730,000 MT of corn gluten feed imported into the EU from the United States. The TRQ was made applicable beginning on the earlier of June 1, 2001 or five days after the date of the WTO Dispute Settlement Body's (DSB) adoption of a decision that the U.S. quota on wheat gluten, applied pursuant to Section 201 of the Trade Act of 1974 (19 U.S.C. 2251), was “incompatible with the WTO Agreements.” The EU has cited Articles 8.2 and 8.3 of the WTO Agreement on Safeguards as authority for this measure. Its representatives stated that the DSB adoption of its recommendations and rulings in United States—Definitive Safeguard Measures on Imports of Wheat Gluten from the European Communities, WT/DS166/AB/R (January 19, 2000) triggered the application of the TRQ.

The EU provided written notification of this measure to the WTO Committee on Safeguards and the Council for Trade in Goods, but never placed the measure on the agenda of the WTO Council for Trade in Goods. In addition, the EU at no point consulted with the United States on how measures imposed by the EU might meet the requirement to maintain substantially equivalent levels of concessions and other obligations to that existing under the GATT 1994. Therefore, it appears that the corn gluten feed TRQ does not satisfy the requirements of Articles 8.1, 8.2, and 8.3 of the Safeguards Agreement for a Member to suspend concessions or other obligations.

Public Comment: Requirements for Submissions

Interested persons are invited to submit written comments concerning the issues raised in the dispute. Comments must be in English and provided in fifteen copies. A person requesting that information contained in a comment submitted by that person be treated as confidential business information must certify that such information is business confidential and would not customarily be released to the public by the commenter. Confidential business information must be clearly marked “BUSINESS CONFIDENTIAL” in a contrasting color ink at the top of each page of each copy.

Information or advice contained in a comment submitted, other than business confidential information, may be determined by USTR to be confidential in accordance with section 135(g)(2) of the Trade Act of 1974 (19 U.S.C. 2155(g)(2)). If the submitter believes that information or advice may qualify as such, the submitter—

(1) Must so designate the information or advice;

(2) Must clearly mark the material as “SUBMITTED IN CONFIDENCE” in a contrasting color ink at the top of each page of each copy; and

(3) Is encouraged to provide a non-confidential summary of the information or advice.

Pursuant to section 127(e) of the URAA (19 U.S.C. 3537(e)), USTR will maintain a file on this dispute settlement proceeding, accessible to the public, in the USTR Reading Room: Room 101, Office of the United States Trade Representative, 600 17th Street, NW., Washington, DC 20508. The public file will include non-confidential comments received by USTR from the public with respect to the dispute; if a dispute settlement panel is convened, the U.S. submissions to that panel, the submissions, or non-confidential summaries of submissions, to the panel received from other participants in the dispute, as well as the report of the panel; and, if applicable, the report of the Appellate Body. An appointment to review the public file (Docket WTO/DS223, Corn Gluten TRQ Dispute) may be made by calling Brenda Webb, (202) 395-6186. The USTR Reading Room is open to the public from 9:30 a.m. to 12 noon and 1 p.m. to 4 p.m., Monday through Friday.

A. Jane Bradley,
Assistant United States Trade Representative for Monitoring and Enforcement.

[FR Doc. 01-3471 Filed 2-9-01; 8:45 am]

BILLING CODE 3190-01-P